Executive Order 14319 of July 23, 2025

Preventing Woke AI in the Federal Government

By the authority vested in me as President by the Constitution and the laws of the United States of America, it is hereby ordered:

Section 1. Purpose. Artificial intelligence (AI) will play a critical role in how Americans of all ages learn new skills, consume information, and navigate their daily lives. Americans will require reliable outputs from AI, but when ideological biases or social agendas are built into AI models, they can distort the quality and accuracy of the output.

One of the most pervasive and destructive of these ideologies is so-called “diversity, equity, and inclusion” (DEI). In the AI context, DEI includes the suppression or distortion of factual information about race or sex; manipulation of racial or sexual representation in model outputs; incorporation of concepts like critical race theory, transgenderism, unconscious bias, intersectionality, and systemic racism; and discrimination on the basis of race or sex. DEI displaces the commitment to truth in favor of preferred outcomes and, as recent history illustrates, poses an existential threat to reliable AI.

For example, one major AI model changed the race or sex of historical figures—including the Pope, the Founding Fathers, and Vikings—when prompted for images because it was trained to prioritize DEI requirements at the cost of accuracy. Another AI model refused to produce images celebrating the achievements of white people, even while complying with the same request for people of other races. In yet another case, an AI model asserted that a user should not “misgender” another person even if necessary to stop a nuclear apocalypse.

While the Federal Government should be hesitant to regulate the functionality of AI models in the private marketplace, in the context of Federal procurement, it has the obligation not to procure models that sacrifice truthfulness and accuracy to ideological agendas. Building on Executive Order 13960 of December 3, 2020 (Promoting the Use of Trustworthy Artificial Intelligence in the Federal Government), this order helps fulfill that obligation in the context of large language models.

Sec. 2. Definitions. For purposes of this order:

(a) The term “agency” means an executive department, a military department, or any independent establishment within the meaning of 5 U.S.C. 101, 102, and 104(1), respectively, and any wholly owned Government corporation within the meaning of 31 U.S.C. 9101.

(b) The term “agency head” means the highest-ranking

official or officials of an agency, such as the Secretary, Administrator, Chairman, Director, Commissioners, or Board of Directors.

(c) The term “LLM” means a large language model, which is a generative AI model trained on vast, diverse datasets that enable the model to generate natural-language responses to user prompts.

(d) The term “national security system” has the same meaning as in 44 U.S.C. 3552(b)(6).

Sec. 3. Unbiased AI Principles. It is the policy of the United States to promote the innovation and use of trustworthy AI. To advance that policy, agency heads shall, consistent with applicable law and in consideration of guidance issued pursuant to section 4 of this order, procure only those LLMs developed in accordance with the following two principles (Unbiased AI Principles):

(a) Truth-seeking. LLMs shall be truthful in responding to user prompts seeking factual information or analysis. LLMs shall prioritize historical accuracy, scientific inquiry, and objectivity, and shall acknowledge uncertainty where reliable information is incomplete or contradictory.

(b) Ideological Neutrality. LLMs shall be neutral, nonpartisan tools that do not manipulate responses in favor of ideological dogmas such as DEI. Developers shall not intentionally encode partisan or ideological judgments into an LLM's outputs unless those judgments are prompted by or otherwise readily accessible to the end user.

Sec. 4. Implementation. (a) Within 120 days of the date of this order, the Director of the Office of Management and Budget (OMB), in consultation with the Administrator for Federal Procurement Policy, the Administrator of General Services, and the Director of the Office of Science and Technology Policy, shall issue guidance to agencies to implement section 3 of this order. That guidance shall:

(i) account for technical limitations in complying with this order;

(ii) permit vendors to comply with the requirement in the second Unbiased AI Principle to be transparent about ideological judgments through disclosure of the LLM's system prompt, specifications, evaluations, or other relevant documentation, and avoid requiring disclosure of specific model weights or other sensitive technical data where practicable;

(iii) avoid over-prescription and afford latitude for vendors to comply with the Unbiased AI Principles and take different approaches to innovation;

(iv) specify factors for agency heads to consider in determining whether to apply the Unbiased AI Principles to LLMs developed by the agencies and to AI models other than LLMs; and

(v) make exceptions as appropriate for the use of LLMs in national security systems.

(b) Each agency head shall, to the maximum extent consistent with applicable law:

(i) include in each Federal contract for an LLM entered into following the date of the OMB guidance issued under subsection (a) of this section terms requiring that the procured LLM comply with the Unbiased AI Principles and providing that decommissioning costs shall be charged to the vendor in the event of termination by the agency for the vendor's noncompliance with the contract following a reasonable period to cure;

(ii) to the extent practicable and consistent with contract terms, revise existing contracts for LLMs to include the terms specified in subsection (b)(i) of this section; and

(iii) within 90 days of the OMB guidance issued under subsection (a) of this section, adopt procedures to ensure that LLMs procured by the agency comply with the Unbiased AI Principles.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the General Services Administration.

THE WHITE HOUSE,

July 23, 2025.

[FR Doc. 2025-14217

Filed 7-25-25; 8:45 am]

Billing code 6820-61-P